DEPARTMENT OF JUSTICE

[OMB Number 1117-0NEW]

Agency Information Collection Activities; Proposed eCollection eComments Requested; New collection; Title—User Access Request Form for EPIC System Portal (ESP)

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until September 23, 2025.

FOR FURTHER INFORMATION CONTACT: If you have additional comments especially on the estimated public burden or associated response time, suggestions, or need a copy of the proposed information collection instrument with instructions or additional information, please contact Benjamin Inks, Writer/Editor, Office of Compliance, Policy Administration Section 700 Army Navy Drive Arlington VA 22202, telephone: 571-672-4524, email: Benjamin.B.Inks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The purpose of the User Access Request Form is to collect information to process new requests to access the Drug Enforcement Administration's El Paso Intelligence Center (EPIC) System Portal (ESP). The ESP enables authorized law enforcement personnel to access law enforcement sensitive information related to drug and human trafficking, firearms smuggling, money laundering, and other offenses. The collected information ensures proper vetting, security, and compliance with federal law enforcement policies.

Overview of This Information Collection

1. Type of Information Collection: New collection.

2. The Title of the Form/Collection: User Access Request Form for the EPIC System Portal.

3. Form Number: To be assigned upon approval by the OMB. The sponsoring component is the Drug Enforcement Administration.

4. The affected public includes federal, state, local, and tribal law enforcement personnel seeking access to the ESP. The obligation to respond is required to obtain access to the system.

5. The estimated number of respondents for this form is 1,000. The time per response is 7 minutes.

6. An estimate of the total annual burden (in hours) associated with the collection: The total estimated annual burden hours for this collection is 1,000 hours.

7. An estimate of the total annual cost burden associated with the collection, if applicable: $4,666.80.

Total Burden Hours

Activity | Number of respondents | Frequency | Total annual responses | Time per response (min.) | Total annual burden (hours)
User Access Request Form | 1,000 | 1 | 1,000 | 7 | 116.67
Unduplicated Totals | 1,000 | 1 | 1,000 | 7 | 116.67

If additional information is required contact: Darwin Arceo, Department Clearance Officer, United States Department of Justice, Justice Management Division, Policy and Planning Staff, Two Constitution Square, 145 N Street NE, 4W-218, Washington, DC.

Dated: July 23, 2025.
Darwin Arceo,
Department Clearance Officer for PRA, U.S. Department of Justice.

[FR Doc. 2025-14045 Filed 7-24-25; 8:45 am]

BILLING CODE 4410-09-P